FEDERAL ELECTION COMMISSION

Sunshine Act Meeting

AGENCY: Federal Election Commission.

DATE AND TIME: Tuesday, September 12, 2000 at 2:00 p.m.

PLACE: 999 E Street, NW., Washington, DC (Ninth Floor).

STATUS: This meeting will be open to the public.

ITEMS TO BE DISCUSSED: 2000 General Election Entitlement of $12,613,452 for Patrick J. Buchanan and Ezola Foster.

2000 General Election Entitlement for John Hagelin and Nat Goldhaber.

PERSON TO CONTACT FOR INFORMATION: Mr. Ron Harris, Press Officer, Telephone: (202) 694-1220.

Mary W. Dove,
Acting Secretary of the Commission.

[FR Doc. 00-23493 Filed 9-8-00; 11:59 am]

BILLING CODE 6715-01-M